FEDERAL MARITIME COMMISSION

Ocean Transportation Intermediary License; Applicants

Notice is hereby given that the following applicants have filed with the Federal Maritime Commission an application for license as a Non-Vessel-Operating Common Carrier Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel—Operating Common Carrier Ocean Transportation Intermediary Applicants

A. Transport, Inc., 2000 Sullivan Road, #D, College Park, GA 30337. Officer: Gi H. Song, President (Qualifying Individual).

Cane Freight, Inc., 901 W. Valley Blvd., #C, Alhambra, CA 91803. Officers: Lilin Yu, Vice President (Qualifying Individual), Zhu Yi, President.

OTA Logistics Inc., 7300 Alondra Blvd., Suite 106, Paramount, CA 90723. Officers: Davy Shum, CEO (Qualifying Individual), Tony Chen, General Manager.

Dated: December 22, 2006.
Bryant L. VanBrakle,
Secretary.

[FR Doc. E6-22293 Filed 12-27-06; 8:45 am]

BILLING CODE 6730-01-P